DEPARTMENT OF THE INTERIOR

Bureau of Land Management

[WO-320-1990-PB-24 1A]

Extension of Approved Information Collection, OMB Approval Number 1004-0194

AGENCY: Bureau of Land Management, Interior.

ACTION: Notice and request for comments.

SUMMARY: In accordance with the Paperwork Reduction Act of 1995, the Bureau of Land Management (BLM) request the Office of Management and Budget (OMB) to extend an existing approval to collect information to ensure operators and mining claimants meet their responsibilities while conducting exploration, mining, and reclamation work on public lands. BLM uses Forms 3809-1, 3809-2, and 3809-4 to collect financial guarantee bond information for surface management activities. The nonform information under 43 CFR 3809 authorizes operators and mining claimants to perform surface management activities under the General Mining Law.

DATES: You must submit your comments to BLM at the address below on or before September 30, 2002. BLM will not necessarily consider any comments received after the above date.

ADDRESSES: You may mail comments to: Regulatory Affairs Group (WO-630), Eastern States Office, 7450 Boston Blvd., Springfield, Virginia 22153.

You may send comments via Internet to: WOComment@blm.gov. Please include “ATTN: 1004-0194” and your name and address with your comments.

You may deliver comments to the Bureau of Land Management, Administrative Record, Room 401, 1620 L Street, NW, Washington, DC.

Comments will be available for public review at the L Street address during regular business hours (7:45 a.m. to 4:15 p.m.) Monday through Friday.

FOR FURTHER INFORMATION CONTACT: You may contact Rick Deery, Solid Minerals Group, on (202) 452-0353 (Commercial or FTS). Persons who use a telecommunication device for the deaf (TDD) may call the Federal Information Relay Service (FIRS) on 1-800-877-8330, 24 hours a day, seven days a week, to contact Mr. Deery.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Under the General Mining Law, a citizen may enter onto public domain lands that are subject to the law to prospect and explore for valuable mineral deposits. They may do so without seeking the government's permission beforehand. The rights to a deposit of a valuable mineral are granted through the act of discovering the mineral deposit. After making a discovery, a prospector may choose to locate and record a mining claim to protect investments in exploration and to have a secure tenure to discovered valuable mineral deposits. Locating a mining claim is not a prerequisite for conducting operations on the public lands, nor is it even a requirement for carrying out mining operations. BLM uses the regulations at 43 CFR 3809 to govern hardrock mineral exploration and development on the public lands and Federal interests in the lands. The hardrock minerals are subject to the provisions of the 1872 General Mining Law (30 U.S.C. 22, et seq., as amended).

BLM collects nonform information on surface management activities from mining claimants and operators.

Information collection for surface mgmt activities | Estimated hours
Notice Level Activities:
1. Small exploration operations | 16
2. Medium scale exploration operations | 48
Plan Level Activities:
3. Small placer operation | 80
4. Placer mine operations | 160
5. Industrial mineral operations | 160
6. Small underground mine | 160
7. Open pit mine operations | 480
8. NEPA compliance:
Exploration | 320
EA-level mines, simple320
EA-level mines, standard | 890
EIS-level mines | 2,480
9. Section 106 of NHPA | 30

You must submit the requested information and forms to the proper BLM office. BLM uses Form 3809-1—Surface Management Surety Bond Form, 3809-2—Surface Management Personal Bond Form, and 3809-4—Generalized Bond Rider Form for submitting financial guarantee on surface management activities.

Based on BLM's experience administering this program, we estimate the public reporting burden is 8 minutes each to complete Forms 3809-1, 3809-2 and 3809-4. These estimates include the time spent on research, gathering, and assembling information, reviewing instructions, and completing the respective forms. In FY 2000, BLM estimated 1,897 surface management activity responses are filed annually, with a total annual burden of 306,536 hours. Respondents vary from individuals and small businesses to large corporations.

Any member of the public may request and obtain, without charge, a copy of BLM Forms 3809-1, 3809-2, and 3809-4 by contacting the person identified under FOR FURTHER INFORMATION CONTACT.

BLM will summarize all responses to this notice and include them in the request for OMB approval. All comments will become a matter of a public record.

Dated: July 23, 2002.
Michael H. Schwartz,
Bureau of Land Management, Information Collection Clearance Officer.

[FR Doc. 02-19188 Filed 7-29-02; 8:45 am]

BILLING CODE 4310-84-M